DEPARTMENT OF AGRICULTURE

National Agricultural Statistics Service

Submission for OMB Review; Comment Request

October 6, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by November 12, 2015 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Floriculture Survey.

OMB Control Number: 0535-0093.

Summary of Collection: The primary function of the National Agricultural Statistics (NASS) is to prepare current official state and national estimates of crop and livestock production. Since 1985 Congress has provided funds to conduct an annual Commercial Floriculture Survey which obtains data on this important and growing industry. The Floriculture Survey is currently conducted in 15 States (California, Florida, Hawaii, Illinois, Maryland, Michigan, New Jersey, New York, North Carolina, Ohio, Oregon, Pennsylvania, South Carolina, Texas, and Washington). General authority for these data collection activities is granted under U.S. Code Title 7, Section 2204. This statute specifies that “The Secretary of Agriculture shall procure and preserve all information concerning agriculture which can be obtain by the collection of statistics...and shall distribute them among agriculturists”. The floriculture industry accounted for more than $5.9 billion in wholesale sales at the U.S. level.

Need and Use of the Information: NASS obtains basic agricultural statistics on production and value of floriculture products. The target population for this survey is all operations with production and sales of at least $10,000 of floriculture products. Data collected from the survey will assess alternative agriculture opportunities, and provide statistics for Federal and State agencies to monitor the use of agricultural chemicals. If the information is not collected data users could not keep abreast of changes.

Description of Respondents: Farms; Business or other-for-profit.

Number of Respondents: 8,218.

Frequency of Responses: Reporting: Annually.

Total Burden Hours: 4,950.

National Agricultural Statistics Service

Title: Mink Survey.

OMB Control Number: 0535-0212.

Summary of Collection: The primary function of the National Agricultural Statistics Service (NASS) is to prepare and issue current official State and national estimates of crop and livestock production. The mink program consists of two surveys: an annual census of all known mink producers in the 50 states (the Mink Survey) and an annual survey of two prominent mink pelt auction houses (the Mink Price Survey). Statistics on mink production are published for the 13 major states that account for nearly 100 percent of the total U.S. pelt production. There is no other source for this type of information. General authority for these data collection activities is granted under U.S. Code Title 7, Section 2204.

Need and Use of the Information: NASS collects information on mink pelts produced by color, number of females bred to produce kits the following year, number of mink farms, average marketing price, and the value of pelts produced. The data is disseminated by NASS in the Mink Report and is used by the U.S. government and other groups.

Description of Respondents: Farms.

Number of Respondents: 352.

Frequency of Responses: Reporting: Annually.

Total Burden Hours: 89.

Charlene Parker,
Departmental Information Collection Clearance Officer.

[FR Doc. 2015-25851 Filed 10-9-15; 8:45 am]

BILLING CODE 3410-20-P